ENVIRONMENTAL PROTECTION AGENCY

[EPA-HQ-OPPT-2007-1080; FRL-8351-2]

Endocrine Disruptor Screening Program (EDSP); Draft Policies and Procedures for Initial Screening; Request for Comment; Extension of Comment Period

AGENCY: Environmental Protection Agency (EPA).

ACTION: Notice; extension of comment period.

SUMMARY: EPA issued a notice in the Federal Register of December 13, 2007, announcing the availability of and soliciting public comment on EPA's draft policies and procedures for initial screening under the Agency's Endocrine Disruptor Screening Program (EDSP). The December 13, 2007, notice provided for a 60-day public comment period ending February 11, 2008. EPA received several requests from the public to extend this comment period. This document extends the comment period for 30 days, from February 11, 2008, to March 12, 2008.

DATES: Comments, identified by docket identification (ID) number EPA-HQ-OPPT-2007-1080, must be received on or before March 12, 2008.

ADDRESSES: Follow the detailed instructions as provided under ADDRESSES in the Federal Register document of December 13, 2007.

FOR FURTHER INFORMATION CONTACT: William Wooge, Office of Science Coordination and Policy (7201M), Office of Prevention, Pesticides and Toxic Substances, Environmental Protection Agency, 1200 Pennsylvania Ave., NW., Washington, DC 20460-0001; telephone number: (202) 564-8476; e-mail address: wooge.william@epa.gov.

SUPPLEMENTARY INFORMATION: This document extends the public comment period established in the Federal Register of December 13, 2007 (72 FR 70842) (FRL-8340-3). In that document, EPA announced the availability of and solicited public comment on EPA's draft policies and procedures for initial screening under the Agency's EDSP. On December 17, 2007, EPA held a workshop to discuss the draft policies and procedures. EPA intends to convene a second half-day public meeting to discuss these draft policies and procedures and answer questions from the public. A separate Federal Register document will announce the details of the meeting. EPA is hereby extending the comment period, which was set to end on February 11, 2008, to March 12, 2008.

To submit comments, or access the public docket, please follow the detailed instructions as provided under ADDRESSES in the December 13, 2007, Federal Register document. If you have questions, consult the person listed under FOR FURTHER INFORMATION CONTACT.

List of Subjects

Environmental protection, Chemicals, Endocrine disruptors, Pesticides and pests, Reporting and recordkeeping.

Dated: January 30, 2008.
James B. Gulliford,
Assistant Administrator, Office of Prevention, Pesticides and Toxic Substances.

[FR Doc. E8-2164 Filed 2-5-08; 8:45 am]

BILLING CODE 6560-50-S